DEPARTMENT OF AGRICULTURE

Farm Service Agency

7 CFR Part 764

RIN 0560-AF72

Streamlining of the Emergency Farm Loan Program Loan Regulations; Correction

AGENCY: Farm Service Agency, USDA.

ACTION: Final rule; correction.

SUMMARY: This document contains corrections to the final rule which was published Tuesday, January 8, 2002 (67 FR 791-801). Several definitions were incorrectly numbered and several regulatory sections were incorrectly cited. These errors are corrected with this document.

DATES: Effective on February 21, 2002.

FOR FURTHER INFORMATION CONTACT: Tom Witzig, (202) 205-5851.

SUPPLEMENTARY INFORMATION: In the final rule published on January 8, 2002, (67 FR 791-801) make the following corrections.

1. On page 796, in the first column, in the definition for “Established farmer” paragraphs (a) through (e) introductory text are redesignated as paragraphs (1) through (5) and paragraphs (e)(1) through (e)(4) are redesignated as paragraphs (5)(i) through (5)(iv).

2. On page 796, in the second column, in the definition for “Family farm” paragraphs (a), (b) introductory text, (b)(1), (b)(2), (b)(3), (c) introductory text, (c)(1), (c)(2), (d) introductory text, (d)(1), (d)(2) and (e) are redesignated as paragraphs (1), (2), (2)(i), (2)(ii), (2)(iii), (3), (3)(i), (3)(ii), (4), (4)(i), (4)(ii) and (5).

3. On page 796, in the second column, in the definition for “Feasible plan” paragraphs (a) through (c) are redesignated as paragraphs (1) through (3).

4. On page 796, in the third column, in the definition for “Normal production yield” paragraphs (a) through (c) are redesignated as paragraphs (1) through (3).

5. On page 800, § 764.9, paragraphs (a) and (b)(2), the references to “§ 761.8” are corrected to read “§ 761.7”.

Signed at Washington, DC on February 12, 2002.
J.B. Penn,
Under Secretary for Farm and Foreign, Agricultural Services.

[FR Doc. 02-4099 Filed 2-20-02; 8:45 am]

BILLING CODE 3410-05-P